DEPARTMENT OF THE INTERIOR

National Park Service

[2253-665]

Notice of Intent To Repatriate a Cultural Item: Kingman Museum, Inc., Battle Creek, MI

AGENCY: National Park Service, Interior.

ACTION: Notice.

SUMMARY: The Kingman Museum, Inc., in consultation with the appropriate Indian tribe, has determined that the cultural item meets the definition of unassociated funerary object and repatriation to the Indian tribe stated below may occur if no additional claimants come forward. Representatives of any Indian tribe that believes itself to be culturally affiliated with the cultural item may contact the Kingman Museum, Inc.

DATES: Representatives of any Indian tribe that believes it has a cultural affiliation with the cultural item should contact the Kingman Museum, Inc. at the address below by March 7, 2012.

ADDRESSES: Beth Yahne, Kingman Museum, Inc., Battle Creek, MI 49037, telephone (269) 965-5117.

SUPPLEMENTARY INFORMATION: Notice is here given in accordance with the Native American Graves Protection and Repatriation Act (NAGPRA), 25 U.S.C. 3005, of the intent to repatriate a cultural item in the possession of the Kingman Museum, Inc., Battle Creek, MI that meets the definition of an unassociated funerary object under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Items

In 1997, a pair of wampum beads was donated to the Kingman Museum, Inc. from the family of Clifford Birkholz after his death. At an unknown date, Birkholz had found the beads in an apparent grave in Sacramento County, CA. The two beads are small and disc-shaped with a hole in the middle, held together by a piece of string threaded through each hole. The beads appear to be made out of wood or soapstone and were painted white.

Based upon research done by Kingman Museum, Inc., it was believed that the beads were of Miwok, Pomo, or Wintun origin. Further research and consultation with tribes from the Sacramento County area found that the beads are mostly likely to be of Miwok origin as there are many Miwok burial sites in and around Sacramento County, CA.

Determinations made by the Kingman Museum, Inc.:

Officials of the Kingman Museum, Inc. have determined that:

• Pursuant to 25 U.S.C. 3001(3)(B), the one cultural item described above is reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the wampum beads and the Ione Band of Miwok Indians of California.

Additional Requestors and Disposition

Representatives of any other Indian tribe that believes itself to be culturally affiliated with the wampum beads should contact Beth Yahne, Kingman Museum, Inc., Battle Creek, MI 49037, telephone (269) 965-5117, before March 7, 2012. Repatriation of the wampum beads to the Ione Band of Miwok Indians of California may proceed after that date if no additional claimants come forward.

The Kingman Museum, Inc. is responsible for notifying the Ione Band of Miwok Indians of California that this notice has been published.

Dated: January 31, 2012.
Sherry Hutt,
Manager, National NAGPRA Program.

[FR Doc. 2012-2517 Filed 2-3-12; 8:45 am]

BILLING CODE 4312-50-P